SECURITIES AND EXCHANGE COMMISSION

[SEC File No. 270-621]

Submission for OMB Review; Comment Request

Upon Written Request, Copies Available From: Securities and Exchange Commission, Office of Investor Education and Advocacy, Washington, DC 20549-0213.

Electronic Data Collection System

Notice is hereby given that, pursuant to the Paperwork Reduction Act of 1995 (44 U.S.C. 3501 et seq.), the Securities and Exchange Commission (“Commission”) is soliciting comments on the new collection of information summarized below. The Commission plans to submit this new collection of information to the Office of Management and Budget for approval.

The Securities and Exchange Commission has begun the design of a new Electronic Data Collection System database (the Database) and invites comment on the Database that will support information provided by the general public that would like to file a tip or complaint with the SEC. The Database will be a web based e-filed dynamic report based on technology that pre-populates and establishes a series of questions based on the data that the individual enters. The individual will then complete specific information on the subject(s) and nature of the suspicious activity, using the data elements appropriate to the type of complaint or subject. The information collection is voluntary. The first phase of the Database is scheduled to be released as a pilot in December 2010. Any public suggestions that are received during the pilot phase will be reviewed and changes will be considered. The final version will be available Spring 2011. There are no costs associated with this collection. It will be available using the agency's Web site http://www.sec.gov. Information is voluntary.

Estimated number of annual responses = 25,000.

Estimated annual reporting burden = 12,500 hours (30 minutes per submission).

Written comments are invited on: (a) Whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 30 days of this publication.

Background documentation for this new information collection may be viewed at the following Web site, http://www.reginfo.gov. Please direct general comments to the following persons: (i) Desk Officer for the Securities and Exchange Commission, Office of Management and Budget, Room 10102, New Executive Office Building, Washington, DC 20503 or send an e-mail to Shagufta Ahmed at Shagufta_Ahmed@omb.eop.gov; Thomas Bayer, Director/CIO, Securities and Exchange Commission, C/O Remi Pavlik-Simon, 6432 General Green Way, Alexandria, VA 22312; or send an e-mail to: PRA_Mailbox@sec.gov. Comments must be submitted to OMB within 30 days of this notice.

November 5, 2010.
Florence E. Harmon,
Deputy Secretary.

[FR Doc. 2010-28777 Filed 11-15-10; 8:45 am]

BILLING CODE 8011-01-P